DEPARTMENT OF ENERGY

Federal Energy Regulatory Commission

Combined Notice of Filings #1

November 22, 2010.

Take notice that the Commission received the following electric corporate filings:

Docket Numbers: EC11-21-000.

Applicants: Alta Wind I, LLC, Alta Wind I Holding Company, LLC.

Description: Application for Authorization of Sale/Leaseback Transactions of Alta Wind I Holding Company, LLC, et al.

Filed Date: 11/19/2010.

Accession Number: 20101119-5204.

Comment Date: 5 p.m. Eastern Time on Friday, December 10, 2010.

Take notice that the Commission received the following electric rate filings:

Docket Numbers: ER03-534-011.

Applicants: Ingenco Wholesale Power, L.L.C.

Description: Supplement to Notice of Change in Status of Ingenco Wholesale Power, L.L.C..

Filed Date: 11/19/2010.

Accession Number: 20101119-5144.

Comment Date: 5 p.m. Eastern Time on Friday, December 10, 2010.

Docket Numbers: ER05-1178-015; ER09-838-001.

Applicants: Gila River Power LP, Entegra Power Services LLC.

Description: Supplement to Updated Market Power Analysis for Continued Market-Based Rate Authority in Compliance with Order No. 697 of Gila River Power, L.P., et al.

Filed Date: 11/19/2010.

Accession Number: 20101119-5206.

Comment Date: 5 p.m. Eastern Time on Friday, December 10, 2010.

Docket Numbers: ER10-2235-001.

Applicants: San Diego Gas & Electric Company.

Description: San Diego Gas and Electric Company submits revised worksheets and a refund report under ER10-2235.

Filed Date: 11/08/2010.

Accession Number: 20101109-0201.

Comment Date: 5 p.m. Eastern Time on Monday, November 29, 2010.

Docket Numbers: ER11-1890-000; ER11-1890-001; ER11-1892-000; ER11-1892-001; ER11-1893-000; ER11-1893-001; ER11-1894-000; ER11-1894-001; ER11-1881-000; ER11-1881-001; ER11-1882-000; ER11-1882-001; ER11-1883-000; ER11-1883-001; ER11-1885-000; ER11-1885-001; ER11-1886-000; ER11-1886-001; ER11-1887-000; ER11-1887-001; ER11-1889-000; ER11-1889-001.

Applicants: Camp Reed Wind Park, LLC, Payne's Ferry Wind Park, LLC, Salmon Falls Wind Park, LLC, Yahoo Creek Wind Park, LLC, Burley Butte Wind Park, LLC, Golden Valley Wind Park, LLC, Milner Dam Wind Park, LLC, Oregon Trail Wind Park, LLC, Pilgrim Stage Station Wind Park, LLC, Thousand Springs Wind Park, LLC, Tuana Gulch Wind Park, LLC.

Description: Second Supplement to the Market-Based Rate Applications of Burley Butte Wind Park, LLC, et al.

Filed Date: 11/19/2010.

Accession Number: 20101119-5212.

Comment Date: 5 p.m. Eastern Time on Friday, December 10, 2010.

Docket Numbers: ER11-2159-000.

Applicants: Verso Maine Energy LLC.

Description: Verso Maine Energy LLC submits tariff filing per 35.12: Verso Maine Energy LLC—MBR Application to be effective 1/18/2011.

Filed Date: 11/19/2010.

Accession Number: 20101119-5157.

Comment Date: 5 p.m. Eastern Time on Friday, December 10, 2010.

Docket Numbers: ER11-2160-000.

Applicants: FPL Energy Montezuma Wind, LLC.

Description: FPL Energy Montezuma Wind, LLC submits tariff filing per 35.12: FPL Energy Montezuma Wind, LLC MBR Application to be effective 11/20/2010.

Filed Date: 11/19/2010.

Accession Number: 20101119-5172.

Comment Date: 5 p.m. Eastern Time on Friday, December 10, 2010.

Docket Numbers: ER11-2161-000.

Applicants: Entergy Texas, Inc.

Description: Entergy Texas, Inc submits a revised, lower depreciation rates for their use in all applicable FERC formula rates relating to steam production accounts.

Filed Date: 11/19/2010.

Accession Number: 20101122-0201.

Comment Date: 5 p.m. Eastern Time on Friday, December 10, 2010.

Docket Numbers: ER11-2162-000.

Applicants: AP Holdings Southaven, LLC.

Description: Notice of Cancellation of AP Holdings Southaven, LLC.

Filed Date: 11/22/2010.

Accession Number: 20101122-5056.

Comment Date: 5 p.m. Eastern Time on Monday, December 13, 2010.

Docket Numbers: ER11-2163-000.

Applicants: BTEC New Albany LLC.

Description: Notice of Cancellation of BTEC New Albany LLC.

Filed Date: 11/19/2010.

Accession Number: 20101119-5211.

Comment Date: 5 p.m. Eastern Time on Friday, December 10, 2010.

Docket Numbers: ER11-2164-000.

Applicants: Comverge Inc.

Description: Application of Comverge, Inc. Docket for limited waiver of Section III.13.1.4.8.1 of Market Rule 1 of ISO New England.

Filed Date: 11/19/2010.

Accession Number: 20101119-5173

Comment Date: 5 p.m. Eastern Time on Friday, December 10, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-30047 Filed 11-29-10; 8:45 am]

BILLING CODE 6717-01-P